DEPARTMENT OF HOMELAND SECURITY

Coast Guard

[USCG-2006-23862]

Maritime Security Directive (MARSEC Directive) 104-6; Guidelines for U.S. Vessels Operating in High Risk Waters

AGENCY: Coast Guard, DHS.

ACTION: Notice of availability.

SUMMARY: The Coast Guard announces the availability of MARSEC Directive 104-06. This MARSEC Directive provides guidelines for U.S. vessels operating in high risk waters. Information within this MARSEC Directive is designated Sensitive Security Information (SSI) and is not subject to public release.

DATES: The MARSEC Directive will be available on February 10, 2006.

ADDRESSES: This MARSEC Directive is available at the following Captain of the Port (COTP) offices:

Boston; Tel (617) 223-3000, 455 Commercial St., Boston, MA 02109-1096.

Portland; Tel (207) 767-0320, 259 High Street, South Portland, ME 04106.

Providence; Tel (401) 435-2300, 20 Risho Ave. East, Providence, RI 02914-1208.

Long Island Sound; Tel (203) 468-4401, 120 Woodward Ave., New Haven, CT 06512-3698.

New York; Tel (718) 354-4353, 212 Coast Guard Dr, Staten Ils, NY 10305.

Baltimore; Tel (410) 576-2561, 2401 Hawkins Point Rd, Baltimore, MD 21226-5000.

Philadelphia; Tel (215) 271-4800, One Washington Ave., Philadelphia, PA 19147-4395.

Hampton Roads; Tel (757) 668-5555, 4000 Coast Guard Blvd., Portsmouth, VA 23703.

Wilmington; Tel (910) 772-2200, 721 Medical Center Dr., Wilmington, NC 28401.

Miami; Tel (305) 535-5300, 100 MacArthur Cswy, Miami, FL 33139.

Tampa; Tel (813) 228-2191, 155 Columbia Dr., Tampa, FL 33606-3598.

Jacksonville; Tel (904) 232-2640, 7820 Arlington Expy. Suite 400, Jacksonville, FL 32211-7445.

Savannah; Tel (912) 652-4353, Juliette G. Low Federal Bldg., 100 W. Oglethorpe Ave., Suite 1017, Savannah, GA 31401.

Charleston; Tel (843) 724-7683, 196 Tradd St., Charleston, SC 29401-1817.

San Juan; Tel (787) 706-2400, P.O. Box 71526, San Juan, PR 00936-8626.

St. Louis; Tel (314) 539-3091, 1222 Spruce St., St. Louis, MO 63103-2835.

Memphis; Tel (901) 544-3912, #3 Auction Ave., Memphis, TN 38105.

Paducah; Tel (270) 442-1621, 225 Tully St. Paducah, KY 42003-0170.

Pittsburgh; Tel (412) 644-5808, Suite 1150, Kossman Bldg., 100 Forbes Ave., Pittsburgh, PA 15222-1371.

Huntington; Tel (304) 733-0198, 95 Peyton Street, Barboursville, WV 25504.

Louisville; Tel (502) 779-5400, 600 Martin Luther King Jr. Place Rm. 409-D, Louisville, KY 40202-2230.

Mobile; Tel (251) 441-5960, BLDG 101, Brookley Complex, Mobile, AL 36615.

Corpus Christi; Tel (361) 888-3162, 555 N. Carancahua Street, Suite 500, Corpus Christi, TX 78478.

Port Arthur; Tel (409) 723-6500, 2901 Turtle Creek Drive, Suite 200, Port Arthur, TX 77642.

Houston-Galveston; Tel (713) 671-5100, 9640 Clinton Drive, Galena Park, TX 77029.

New Orleans; Tel (504) 589-6196, 1615 Poydras St. #77, New Orleans, LA 70112-1254.

Morgan City; Tel (985) 380-5305, 800 David Dr., Rm. 232 Morgan City, LA 70380-1304.

Sault Ste. Marie; Tel (906) 635-3220, 337 Water Street, Sault Ste. Marie, MI 49783-9501.

Chicago; Tel (630) 986-2155, 215 West 83rd St., Suite D, Burr Ridge, IL 60521-7059.

Milwaukee; Tel (414) 747-7155, 2420 S. Lincoln Memorial Dr., Milwaukee, WI 53207-1997.

Detroit; Tel (313) 568-9580, 110 Mt. Elliott Ave., Detroit, MI 48207-4380.

Toledo; Tel (419) 259-6372, 420 Madison Ave., Suite 700, Toledo, OH 43604-1265.

Cleveland; Tel (216) 937-0111, 1055 East Ninth St., Cleveland, OH 44114-1092.

Buffalo; Tel (716) 843-9570, 1 Fuhrmann Blvd., Buffalo, NY 14203-3189

Duluth; Tel (218) 720-5286, 600 S. Lake Ave., Duluth, MN 55802-2352.

San Diego; Tel (619) 278-7033, 2710 North Harbor Dr., San Diego, CA 92101-1064.

San Francisco Bay; Tel (510) 437-3135, Coast Guard Island, Bldg. 14 Alameda, CA 94501-5100.

Los Angeles-Long Beach; Tel (310) 732-2000, 1001 S. Seaside Ave, Bldg 20, San Pedro, CA 90731-0208.

Portland; Tel (503) 240-9310, 6767 N. Basin Ave., Portland, OR 97217-3992.

Puget Sound; Tel (206) 217-6200, 1519 Alaskan Way South Bldg. 1, Seattle, WA 98134-1192.

Honolulu; Tel (808) 842-2660, 400 Sand Island Parkway, Honolulu, HI 96819-4398.

Guam; Tel (671) 339-2001, PSC 455, Box 176, FPO AP 96540-1056.

Anchorage; Tel (907) 271-6700, 510 L. St., Suite 100, Anchorage, AK 99501-1946.

Juneau; Tel (907) 463-2450, 2760 Sherwood Lane, Suite 2A, Juneau, AK 99801-8545.

Prince William Sound; Tel (907) 835-7200, P.O. Box 486, 105 Clifton Dr., Valdez, AK 99686-0486.

FOR FURTHER INFORMATION CONTACT: If you have questions on this notice, contact LCDR Rob McLellan, Coast Guard, telephone 202-267-4129.

SUPPLEMENTARY INFORMATION:

What Action Is the Coast Guard Taking?

The Coast Guard is issuing MARSEC Directive 104-6 for those owners and operators of vessels subject to 33 CFR parts 101 and 104 to provide direction to U.S. flagged vessels operating in high risk areas where acts of piracy and armed robbery against ships is prevalent. Owners and operators have the primary responsibility for ensuring the security of their vessels. Owners and operators must include the performance standards listed in the MARSEC Directive in their vessel security plans.

The performance standards do not impose new industry requirements but provide supplemental direction to assist with the development of vessel security plans required by 33 CFR parts 101 and 104.

To ensure these performance standards are disseminated efficiently and consistently, Coast Guard Area/District Commanders and COTPs will notify appropriate owners and operators of vessels regulated under 33 CFR parts 101 and 104. The COTP or Area/District Commander will confirm, prior to distributing the MARSEC Directive, that the individual(s) is a “covered person” with a “need to know”, and that the MARSEC Directive will be safeguarded as SSI as defined in 49 CFR part 1520.

Owners/operators of vessels regulated under 33 CFR parts 101 and 104 may also contact the local COTP to obtain a copy of the applicable MARSEC Directive. Local COTP contact information can be found in the ADDRESSES section of this notice.

Why Is the Coast Guard Taking This Action?

The Coast Guard is issuing this MARSEC Directive to assist owners and operators of the affected maritime industries in developing security procedures to deter acts of piracy and armed robbery at sea for incorporation into vessel security plans required by 33 CFR part 104.

The MARSEC Directive contains SSI. If disclosed, the SSI could be used to subvert or exploit the security programs of vessels. Therefore, this MARSEC Directive is not subject to public disclosure, in accordance with 46 U.S.C. 40119.

Dated: February 2, 2006.
F. J. Sturm,
Captain, U.S. Coast Guard, Chief, Port and Facility Activities.

[FR Doc. E6-1817 Filed 2-9-06; 8:45 am]

BILLING CODE 4910-15-P